DEPARTMENT OF COMMERCE

International Trade Administration

[A-580-809]

Circular Welded Non-Alloy Steel Pipe From the Republic of Korea: Extension of the Final Results of the Antidumping Duty Administrative Review

AGENCY: Import Administration, International Trade Administration, Department of Commerce.

DATES: Effective Date: February 15, 2012.

FOR FURTHER INFORMATION CONTACT: Mary Kolberg and Jennifer Meek, AD/CVD Operations, Import Administration, International Trade Administration, U.S. Department of Commerce, 14th Street and Constitution Avenue NW., Washington, DC 20230; telephone: (202) 482-1785 and (202) 482-2778, respectively.

Background

On December 7, 2011, the Department of Commerce (“the Department”) published its preliminary results of the antidumping duty administrative review of circular welded non-alloy steel pipe from the Republic of Korea, covering the period November 1, 2009, through October 31, 2010. See Circular Welded Non-Alloy Steel Pipe From the Republic of Korea: Preliminary Results of the Antidumping Duty Administrative Review, 76 FR 76369 (December 7, 2011) (“Preliminary Results”). Currently, the final results are due no later than April 5, 2012.

Extension of Time Limit for Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

The Department has determined that it requires additional time to complete this review. In the Preliminary Results, the Department raised an issue regarding the date of sale for U.S. transactions. The Department needs additional time to request information regarding this issue from the respondents, to analyze the information provided, and then to allow for case and rebuttal briefs. Thus, it is not practicable to complete this review by April 5, 2012, and the Department is extending the time limit for completion of the final results by an additional 60 days to June 4, 2012, in accordance with section 751(a)(3)(A) of the Act.

We are issuing and publishing this notice in accordance with sections 751(a)(3)(A) and 777(i) of the Act.

Dated: February 8, 2012.
Christian Marsh,
Deputy Assistant Secretary for Antidumping and Countervailing Duty Operations.

[FR Doc. 2012-3568 Filed 2-14-12; 8:45 am]

BILLING CODE 3510-DS-P